DEPARTMENT OF HOMELAND SECURITY

Coast Guard

33 CFR Part 165

[Docket No. USCG-2017-0708]

Safety Zone; Fleet Week Maritime Festival, 2017, Pier 66, Elliot Bay; Seattle, Washington

AGENCY: Coast Guard, DHS.

ACTION: Notice of enforcement of regulation.

SUMMARY: The Coast Guard will enforce the Fleet Week Maritime Festival's Pier 66 Safety Zone in Elliott Bay, WA 30 minutes prior to the beginning, during, and 30 minutes following the conclusion of the parade of ships. This action is necessary to promote safety on navigable waters. During the enforcement period, entry into, transit through, mooring, or anchoring within this zone is prohibited unless authorized by the Captain of the Port, Puget Sound or his designated representative

DATES: The regulations in 33 CFR 165.1330 will be subject to enforcement from 8 a.m. until 8 p.m. on August 2, 2017.

FOR FURTHER INFORMATION CONTACT: If you have questions about this notice of enforcement, call or email Petty Officer Zachary Spence, Sector Puget Sound Waterways Management Division, Coast Guard; telephone (206) 217-6051, email SectorPugetSoundWWM@uscg.mil.

SUPPLEMENTARY INFORMATION: The safety zone for the Fleet Week Maritime Festival in 33 CFR 165.1330 will be subject to enforcement from 8 a.m. until 8 p.m. on August 2, 2017; however, within this time frame it will only be enforced 30 minutes prior to the beginning, during, and 30 minutes following the conclusion of the parade of ships. The COTP may issue a general permission to enter the zone during some of this time period if he determines the zone need not be enforced for a certain period of time because the parade of ships starts late or ends early. If the COTP issues a general permission to enter, the public would be notified via a Broadcast Notice to Mariners.

In accordance with the general regulations in 33 CFR part 165, subpart C, no vessel operator may enter, transit, moor, or anchor within this safety zone, except for vessels authorized by the Captain of the Port, Puget Sound or his designated representative, 30 minutes prior to the beginning, during, and 30 minutes following the conclusion of the Parade of Ships. The Captain of the Port may be assisted by other federal, state, or local agencies as needed.

In order to transit through this safety zone, you must be granted authorization by the Captain of the Port, Puget Sound or his designated representative. To seek authorization to enter the zone, contact either the on-scene patrol craft on VHF Ch 13 or Ch 16, or Coast Guard Sector Puget Sound Joint Harbor Operations Center (JHOC) via telephone at (206) 217-6002. Vessel operators granted permission to enter this safety zone will be escorted by the on-scene patrol until no longer within the safety zone.

This document is issued under authority of 33 CFR 165.1330 and 5 U.S.C. 552(a). In addition to this notice of enforcement in the Federal Register, the Coast Guard will provide the maritime community with advanced notification of the safety zone via the Local Notice to Mariners and marine information broadcasts.

Dated: July 17, 2017.
M.M. Balding,
Captain, U.S. Coast Guard, Acting, Captain of the Port Puget Sound.

[FR Doc. 2017-15881 Filed 7-26-17; 8:45 am]

BILLING CODE 9110-04-P